DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing a removal of an entity currently included on OFAC's Specially Designated Nationals and Blocked Persons List (SDN List).

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On April 2, 2024, OFAC removed from the SDN List the person listed below, which was subject to prohibitions imposed pursuant to Executive Order 14024 of April 15, 2021, “Blocking Property With Respect To Specified Harmful Foreign Activities of the Government of the Russian Federation,” 86 FR 20249, 3 CFR, 2021 Comp., p. 542 (Apr. 15, 2021) (E.O. 14024). On April 2, 2024, OFAC determined that the circumstances no longer warrant the inclusion of the following person on the SDN list under this authority. This person is no longer subject to the blocking provisions of section 1(a) of E.O. 14024.

Entity

1. VTB BANK EUROPE SE (f.k.a OST-WEST HANDELSBANK AG; f.k.a VTB BANK DEUTSCHLAND AG), Ruesterstasse 7-9, Frankfurt am Main 60325, Germany; SWIFT/BIC DOBADEF1; website http://www.vtb.eu; Target Type Financial Institution [RUSSIA-EO14024] (Linked to: VTB BANK PUBLIC JOINT STOCK COMPANY).

Dated: April 2, 2024.
Bradley T. Smith,
Director, Office of Foreign Assets Control, U.S. Department of the Treasury.

[FR Doc. 2024-07306 Filed 4-5-24; 8:45 am]

BILLING CODE 4810-AL-P